DEPARTMENT OF COMMERCE

National Oceanic and Atmospheric Administration

[Docket No. 120314189-2189-01]

NCAnet: Building a Network of Networks in Support of the National Climate Assessment (NCA)

AGENCY: Office of Oceanic and Atmospheric Research (OAR), National Oceanic and Atmospheric Administration (NOAA), Department of Commerce.

ACTION: Notice.

SUMMARY: This notice announces the establishment of and invites participation in NCAnet, a network of partners who extend the National Climate Assessment (NCA) process and products to a broad audience of assessment users through the development of assessment-related capacities and products, such as collection and synthesis of data or other technical and scientific information relevant to current and future NCA reports, dissemination of NCA report findings to various users of assessment information, engagement of assessment information producers and users, supporting NCA events, and producing communications materials related to the NCA and NCA report findings.

DATES: Comments and expressions of interest may be submitted at any time and will be reviewed on a rolling basis.

ADDRESSES: General inquiries and expressions of interest should be submitted via email to Emily Therese Cloyd, NCA Public Participation and Engagement Coordinator, at ecloyd@usgcrp.gov. Prospective partners may also use the online submission tool at http://ncanet.usgcrp.gov/home/sign-up to submit their expression of interest.

Responses to this notice cannot be accepted by the government to form a binding contract or issue a grant. Information obtained as a result of this request may be used by the government for program planning on a non-attribution basis. Do not submit any information that might be considered proprietary or confidential.

More information about the NCA process, including the strategic plan, engagement strategy, and information about the National Climate Assessment Development and Advisory Committee can be found at http://assessment.globalchange.gov.

FOR FURTHER INFORMATION CONTACT: Any questions about the content of this request should be sent to Emily Therese Cloyd, NCA Public Participation and Engagement Coordinator, US Global Change Research Program National Coordination Office, 1717 Pennsylvania Ave. NW., Suite 250, Washington, DC 20006, Telephone (202) 223-6262, Fax (202) 223-3065, email ecloyd@usgcrp.gov.

SUPPLEMENTARY INFORMATION:

Background

The National Climate Assessment (NCA) is being conducted under the auspices of the US Global Change Research Program (USGCRP), pursuant to the Global Change Research Act of 1990, 15 U.S.C. 2936, which requires a report to the President and the Congress every four years that: Integrates, evaluates, and interprets the findings of the USGCRP; analyzes the effects of global change on the natural environment, agriculture, energy production and use, land and water resources, transportation, human health and welfare, human social systems, and biological diversity; and analyzes current trends in global change, both human-induced and natural, and projects major trends for the subsequent 25 to 100 years.

The National Climate Assessment Development and Advisory Committee (NCADAC) is an advisory body convened to produce the 2013 NCA report and to provide advice and recommendations toward the development of an ongoing, sustainable national assessment of global change impacts and adaptation and mitigation strategies for the United States. Although this NCA report and subsequent reports will continue to depend heavily on Federal agency leadership and corresponding technical reports, NCADAC recognizes and seeks to leverage the important and growing distributed science capabilities and core competencies across the US. Indeed, it is a goal of the NCA process to increase assessment capacity—that is, the ability to conduct and use scientific assessments—both within and outside of the Federal government. Expertise within state and local governments, non-governmental organizations, impacted communities, professional societies, and private industry represent currently untapped assets and diverse scientific and technical perspectives, especially as they relate to the value of climate and global change information for decision making.

As a way of engaging expertise outside of the federal government, the Engagement, Communication, and Evaluation Working Group of the NCADAC has established NCAnet as a network of partner organizations that can support and extend the NCA process, convey NCA products to a broader audience, and encourage submission of data and other technical inputs from non-federal sources. The NCADAC is seeking to build sustained assessment capacity to conduct and use assessments by cultivating partnerships with organizations that will participate as a part of the sustained assessment process. Partners may contribute a variety of technical and assessment capacities, such as collection and synthesis of data or other technical and scientific information relevant to current and future NCA reports, dissemination of NCA report findings to various users of assessment information, engagement of assessment information producers and users, supporting NCA events, and producing communications materials related to the NCA and NCA report findings.

The NCADAC has identified a number of characteristics that it seeks in NCAnet partners. These include:

• Organization's ability to support its own participation

• Interest (and experience) in climate-related issues

• Support for the objectives of the NCA (http://www.globalchange.gov/what-we-do/assessment/nca-overview/objectives)

• Ability to contribute knowledgeably and meaningfully to the NCA

• Capacity to link to key regions, sectors, and stakeholder groups for the NCA

• Responsive point of contact within the partner organization

• Willingness and ability to meet deadlines and participate in a collaborative fashion

Partners in NCAnet will, individually and in collaboration with each other, work to disseminate information about the NCA through their networks of members and stakeholders, aggregate and provide information from their members and stakeholders to the NCA, help identify individuals and groups within their networks who can actively contribute to assessment activities, and provide feedback to NCA staff and the NCADAC Engagement, Communications and Evaluation Working Group on NCAnet and the NCA as a whole. Partners will accomplish this through the development and delivery of a variety of technical and assessment capacities, including technical inputs that collect or synthesize data or other technical and scientific information, facilitation of meetings or workshops, development of communications materials, helping to build a community of practice and supporting resources around assessment activities, or other contributions, including those described in “Potential Technical Inputs and Assessment Capacities and Suggested Best Practices”, available from http://www.globalchange.gov/what-we-do/assessment/nca-activities/guidance.

An initial vision for NCAnet is further described in “An Overview of NCAnet”, available from http://ncanet.usgcrp.gov. More information about the NCA process, including the strategic plan, engagement strategy, and information about the NCADAC can be found at http://assessment.globalchange.gov.

Request for Expressions of Interest

Individuals, organizations, or existing networks (collectively, “prospective partners”) with an interest in climate and global change who would like to join NCAnet are encouraged to review the online materials about NCAnet, available from http://ncanet.usgcrp.gov, and to prepare a short expression of interest (EOI) describing their interest. All EOIs submitted in response to this notice must include a primary point of contact and contact information (phone number, mailing address, email address, institutional affiliation(s), and web site if applicable). In addition, it is recommended that EOIs include the following:

• Background information about the prospective partner

• The NCA topic(s) of interest (the most recent strategic planning documents and outline of NCA report topics is available from http://www.globalchange.gov/what-we-do/assessment/backgroundprocess)

• Description of anticipated contributions of technical and assessment capacities

Please see the ADDRESSES section for more information on how prospective partners may submit general inquiries or expressions of interest. Comments and expressions of interest may be submitted at any time and will be reviewed on a rolling basis.

Prospective partners submitting an EOI may choose to join NCAnet directly or to coordinate their participation through an existing partner organization. Upon joining, NCAnet partners will be asked to further describe potential contributions to the NCA, including planned technical inputs, facilitation of meetings or workshops, development of communications materials, or other contributions. All descriptions and resulting contributions will be provided to the NCADAC Engagement, Communication, and Evaluation Working Group.

Teams are encouraged to maximize transparency, openness, and information quality in any contributions they make. Partners are requested to provide written summaries to the Engagement, Communications and Evaluation Working Group of their NCA related activities, along with any external sources of funding used to conduct such activities. Only those contributions centered on documented evidence and defensible scientific foundations, and those that document their expert and stakeholder engagement and communication methods, are likely to be considered by the NCADAC. Contributions that are found to be consistent with NCA standards for scientific quality and rigor (e.g., http://www.globalchange.gov/what-we-do/assessment/nca-activities/guidance) may be considered by the NCADAC for posting in the publicly-accessible NCA online database, referenced on other NCA Web pages, or used within the NCA.

While the NCADAC welcomes submissions from prospective partners and subsequent contributions to the NCA, it makes no commitments about how contributions will be used in any NCA reports or processes (http://www.globalchange.gov/what-we-do/assessment/nca-activities/guidance). In addition, the US Global Change Research Program (USGCRP), NOAA and the NCADAC are not able to fund the development of partners' technical or assessment capacities. Partners are free, of course, to seek funding from within or outside of their organization to support their NCAnet-related activities.

Responses to this notice cannot be accepted by the government to form a binding contract or issue a grant. Information obtained as a result of this request may be used by the government for program planning on a non-attribution basis. Do not submit any information that might be considered proprietary or confidential.

Dated: April 10, 2012.
Terry Bevels,
Acting Chief Financial Officer/Chief Financial Officer, Office of Oceanic and Atmospheric Research, National Oceanic and Atmospheric Administration.

[FR Doc. 2012-8931 Filed 4-12-12; 8:45 am]

BILLING CODE P